COMMISSION ON CIVIL RIGHTS

Agenda and Notice of Public Meetings of the District of Columbia Advisory Committee

Notice is hereby given, pursuant to the provisions of the rules and regulations of the U.S. Commission on Civil Rights (Commission), and the Federal Advisory Committee Act (FACA) that planning meetings of Subcommittees of the District of Columbia Advisory Committee to the Commission will convene at 12 p.m. on Tuesday, September 30, 2008, at the U.S. Commission on Civil Rights, 624 Ninth Street, NW., Conference Room 540, Washington, DC 20425. The Subcommittee on Immigration will convene at 12 p.m. and the Subcommittee on Voting Rights will convene at 1:30 p.m. The purpose of each meeting is to discuss possible topics to recommend to the District of Columbia SAC as a civil rights project.

Members of the public are entitled to submit written comments; the comments must be received in the regional office by Monday, October 20, 2008. The address is Eastern Regional Office, 624 Ninth Street, NW., Suite 740, Washington, DC 20425. Persons who desire additional information should contact Alfreda Greene, Secretary, at 202-376-7533, or by e-mail: agreene@usccr.gov.

Hearing-impaired persons who will attend the meetings and require the services of a sign language interpreter should contact the Regional Office at least ten (10) working days before the scheduled date of the meetings.

Records generated from these meetings may be inspected and reproduced at the Eastern Regional Office, as they become available, both before and after the meetings. Persons interested in the work of this advisory committee are advised to go to the Commission's Web site, http://www.usccr.gov, or to contact the Eastern Regional Office at the above e-mail or street address.

The meetings will be conducted pursuant to the provisions of the rules and regulations of the Commission and FACA.

Dated in Washington, DC, September 3, 2008.
Christopher Byrnes,
Chief, Regional Programs Coordination Unit.

[FR Doc. E8-20742 Filed 9-5-08; 8:45 am]

BILLING CODE 6335-01-P